DEPARTMENT OF ENERGY

Federal Energy Regulatory Commission

[Docket No. RP03-129-001]

Panhandle Eastern Pipe Line Company; Notice of Compliance Filing

March 12, 2003.

Take notice that on March 7, 2003, Panhandle Eastern Pipe Line Company (Panhandle) tendered for filing as part of its FERC Gas Tariff, First Revised Volume No. 1, Second Revised Sheet No. 249; Original Sheet No. 249A; Second Revised Sheet No. 250; Original Sheet No 250A; First Revised Sheet No. 254; and Second Revised Sheet No. 254A, to be effective February 1, 2003.

Panhandle states that this filing is being made to comply with the Commission's Letter Order dated February 26, 2003, in Docket No. RP03-129-000 which directed Panhandle to file actual tariff sheets, consistent with the pro formatariff sheets filed on November 27, 2002, in the subject docket, to be effective February 1, 2003.

Panhandle states that copies of this filing are being served on all jurisdictional customers, interested state regulatory agencies and parties to this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 19, 2003.

Magalie R. Salas,
Secretary.

[FR Doc. 03-6530 Filed 3-18-03; 8:45 am]

BILLING CODE 6717-01-P